DEPARTMENT OF TRANSPORTATION

Research and Special Programs Administration

Pipeline Safety: Pipeline Industry Implementation of Effective Public Awareness Programs

AGENCY: Research and Special Programs Administration (RSPA), DOT.

ACTION: Notice; issuance of advisory bulletin.

SUMMARY: RSPA's Office of Pipeline Safety (OPS) is issuing this advisory bulletin to owners and operators of hazardous liquid pipelines, gas transmission pipelines, gas distribution pipelines, and crude oil and gas gathering pipeline systems regulated under 49 CFR parts 192 and 195. The Pipeline Safety Improvement Act of 2002 (PSIA) requires that each owner or operator of a gas or hazardous liquid pipeline facility implement a continuing public education program. By December 17, 2003, each owner or operator must review its existing public education program for effectiveness and modify the program as necessary. RSPA/OPS is asking that each operator complete a self-assessment of its public education program against the guidelines established in the recently-issued consensus standard, American Petroleum Institute's API RP 1162, “Public Awareness Programs for Pipeline Operators,” before December 17, 2003, to demonstrate compliance with the PSIA.

FOR FURTHER INFORMATION CONTACT: Jeff Wiese, (202)366-2036; or by e-mail, jeff.wiese@rspa.dot.gov. This document can be viewed at the OPS home page at http://ops.dot.gov. General information about the RSPA/OPS programs may be obtained by accessing RSPA's home page at http://RSPA.dot.gov.

I. Advisory Bulletin (ADB-03-04)

To: Owners and Operators of Hazardous Liquid Pipelines, Gas Transmission Pipelines, Gas Distribution Pipeline Systems, and Crude Oil and Gas Gathering Pipeline Systems.

Subject: Pipeline Industry Implementation of Effective Public Awareness Programs.

Purpose: To advise owners and operators of hazardous liquid, gas transmission, gas distribution, and crude oil and gas gathering pipeline systems of the statutory requirement to review and maintain effective public education programs and to evaluate programs for effectiveness.

Advisory: The (PSIA) requires that each owner or operator of a gas or hazardous liquid pipeline facility must carry out a continuing public education program. By December 17, 2003, each owner or operator must review its existing public education program for effectiveness and modify the program as necessary. RSPA/OPS is asking each operator to complete a self-assessment of its public education program against the guidelines established in the recently-issued, industry consensus standard, API RP 1162, “Public Awareness Programs for Pipeline Operators.” To assist in this process, RSPA/OPS is developing a self-assessment system that operators can access and complete over the Internet. The self-assessment will help operators identify gaps in their public education programs and improvements needed to align their programs with the requirements of API RP 1162. In September 2003, RSPA/OPS, the National Association of Pipeline Safety Representatives, and the pipeline industry are cosponsoring two public workshops to help operators understand the requirements of the law and the use of the self-assessment system. Operators should submit their self-assessments to RSPA/OPS no later than December 17, 2003.

SUPPLEMENTARY INFORMATION:

II. Background

The Federal pipeline safety regulations at 49 CFR parts 192 and 195 require operators of gas and hazardous liquid pipelines to establish continuing educational programs to enable customers, the public, government organizations, and persons engaged in excavation-related activities to recognize a pipeline emergency for the purpose of reporting it to the operator or the appropriate public officials. The regulations also require that operators implement written programs to prevent pipeline damage from excavation activities and establish public awareness liaison with emergency officials. Accordingly, pipeline operators have previously conducted public awareness programs with the affected public, emergency responders, and excavators along their routes.

The PSIA requires that each owner or operator of a gas or hazardous liquid pipeline facility must carry out a continuing program to educate the public on the use of a one-call notification system prior to excavation and other damage prevention activities, the possible hazards associated with unintended releases from the pipeline facility, the physical indications that such a release may have occurred, what steps should be taken for public safety in the event of a pipeline release, and how to report such an event.

The PSIA requires that by December 17, 2003 (not later than 12 months after the date of its enactment), each owner or operator of a gas or hazardous liquid pipeline facility must review its existing public education program for effectiveness and modify the program as necessary. The completed program must include activities to advise affected municipalities, school districts, businesses, and residents of pipeline facility locations. The completed program must be submitted to the Secretary of Transportation or, in the case of an intrastate pipeline facility operator, the appropriate State agency, and shall be periodically reviewed by the Secretary or, in the case of an intrastate pipeline facility operator, the appropriate State agency.

The PSIA also provides that the Secretary of Transportation may issue standards prescribing the elements of an effective public education program. The Secretary may also develop material for use in the program.

In recognition of the importance of effective public awareness programs, outstanding recommendations from the National Transportation Safety Board and anticipated legislative action in this regard, an industry task force developed a consensus standard establishing guidelines for pipeline operators on development, implementation, and evaluation of public awareness programs for operating pipeline systems, API Recommended Practice (RP) 1162, “Public Awareness Programs for Pipeline Operators”. The task force included representatives from gas and liquid petroleum transmission companies, local distribution companies, crude oil and gas gathering systems, and industry trade associations. Comments were also solicited from local public officials, the public and interested parties was solicited. Representatives from RSPA/OPS and the National Association of Pipeline Safety Representatives observed and provided input into the development of the standard.

API RP 1162 is currently in the final stages of the balloting process, following the guidelines of both API and the American National Standards Institute. After appropriate revisions to address comments, it is expected to be published as a national consensus standard in the fall of 2003.

RSPA/OPS considers that “public education programs,” as used in the PSIA, and “public awareness programs,” as used in API RP 1162, are the same. The level of public education and awareness regarding operating pipelines and pipeline safety can only be increased through education and communication programs that are demonstrated to be effective. Therefore, RSPA/OPS is considering incorporating all or portions of API RP 1162 into the pipeline safety regulations. Of particular interest to RSPA/OPS is the operator's evaluation of its program implementation and program effectiveness.

RSPA/OPS has evaluated the PSIA requirements that operators review and modify their public education programs and submit their completed programs to Secretary of Transportation. We have determined that the intent of the requirements can be met and pipeline safety be best served in the short-term by having pipeline operators complete a formal self-assessment of their public education programs against the guidelines provided in API RP 1162.

RSPA/OPS is developing an Internet-based self-assessment that operators can complete electronically. These self-assessments will help operators identify gaps in their public education programs and improvements needed to align their programs with the requirements of API RP 1162. We ask all operators to submit self-assessments of their public education programs to RSPA/OPS no later than December 17, 2003, to meet the deadline established in the PSIA. This will ensure that operators have complied with the PSIA and will be used in targeting technical assistance workshops to ensure development of effective public education programs.

In 2004, operators will be required to submit their public education program plans to the RSPA/OPS for review. Time frames for submission will be determined by RSPA/OPS and operators will be notified. These plans will need to identify how the operators will address gaps and make improvements in their public education programs. RSPA/OPS will inspect these public education programs as an ongoing part of the pipeline operator inspection program.

RSPA/OPS is co-sponsoring with NAPSR and the pipeline industry trade associations (API, INGAA, AOPL, AGA, APGA) two workshops to facilitate these operator self-assessments. The first workshop will be held on September 4-5, 2003, in Houston, TX. The second workshop will be held on September 16-17, 2003, in Baltimore, MD. On August 14, 2003, RSPA/OPS issued a notice providing specific locations and times for the public education workshops (68 FR 48659). Operators of hazardous liquid and gas transmission pipelines, gas local distribution systems and crude oil and gas gathering systems are urged to attend. Each workshop will provide an industry-facilitated review of API RP 1162 and a panel discussion of successful public education practices. RSPA/OPS will describe the self-assessment process and will facilitate sessions on techniques of effective program evaluation.

RSPA/OPS will conduct breakout sessions during these workshops for the hazardous liquid and gas transmission pipeline operators. The breakout sessions will provide a more in-depth overview of the self-assessment process and attempt to gauge the current status of public education programs for the transmission pipeline operators by completion of informal self-assessments in advance of the formal self-assessment requested by December 17, 2003.

Issued in Washington, DC on August 29, 2003.
Stacey L. Gerard,
Associate Administrator for Pipeline Safety.

[FR Doc. 03-22665 Filed 9-4-03; 8:45 am]

BILLING CODE 4910-60-P